NUCLEAR REGULATORY COMMISSION

[Docket No. 72-10; NRC-2009-0534]

Notice of Docketing of Amendment Request for Materials License No. SNM-2506; Northern States Power Company, a Minnesota Corporation; Prairie Island Independent Spent Fuel Storage Installation

AGENCY: U.S. Nuclear Regulatory Commission.

ACTION: Notice of docketing of amendment request for materials license No. SNM-2506.

FOR FURTHER INFORMATION CONTACT: Pamela Longmire, Ph.D., Project Manager, Licensing Branch, Division of Spent Fuel Storage and Transportation, Office of Nuclear Material Safety and Safeguards, U.S. Nuclear Regulatory Commission, Washington, DC 20555-0001. Telephone: (301) 492-3562; fax number: (301) 492-3350; e-mail: Pamela.Longmire@nrc.gov.

SUPPLEMENTARY INFORMATION:

I. Introduction

The U.S. Nuclear Regulatory Commission (NRC or Commission) is considering an application dated March 28, 2008, as supplemented by letter dated August 29, 2008, from Nuclear Management Company, LLC (NMC; now Northern States Power Company, a Minnesota Corporation) to amend its Special Nuclear Materials License No. SNM-2506, under the provisions of 10 CFR part 72, for the receipt, possession, storage and transfer of spent fuel, reactor-related Greater than Class C waste and other radioactive materials associated with spent fuel storage at the Prairie Island Independent Spent Fuel Storage Installation (ISFSI), located at the Prairie Island Nuclear Generating Plant (PINGP), Unit Nos. 1 and 2, site in Goodhue County, Minnesota.

The TN-40 cask is currently used at the Prairie Island ISFSI for storage of spent fuel with characteristics defined in the existing technical specifications. The fuel characteristics limit the fuel that can be stored in the TN-40 cask to a maximum enrichment of 3.85 weight percent (w/o) U-235 and a maximum burnup of 45,000 MWd/MTU. Since the early 1990s, NMC has used fuel with initial enrichment up to 5.0 w/o U-235. These higher enriched fuels received burnup up to 60,000 MWd/MTU while in the PINGP reactor. After being removed from the PINGP reactor, these higher enriched, higher burnup spent fuels must be placed in, and must remain in, the reactor's spent fuel pool (i.e., wet storage) as the TN-40 cask design does not allow for dry storage of such higher enriched, higher burnup spent fuel. If granted, the amendment will approve the NMC's proposed modification of the TN-40 cask design (to be known as the TN-40HT) for dry storage of the higher enriched, higher burnup spent fuel used in the PINGP reactor as well as associated changes to the ISFSI's technical specifications and the reformatting of those technical specifications. The TN-40HT casks, once loaded with the higher enriched, higher burnup spent fuel, will be placed in the Prairie Island ISFSI.

There are currently 23 loaded TN-40 casks at the Prairie Island ISFSI. The ISFSI is licensed for a maximum of 48 casks. Roughly, 250 spent fuel assemblies meeting the TN-40 parameters remain in wet storage, so an additional 6 casks of the TN-40 design could still be loaded and placed on the ISFSI pad. At that point (in 2013, when the Unit 1 license, and the ISFSI license, are scheduled to expire), NMC would need a new cask design to accommodate additional dry storage of the higher enriched, higher burnup fuels used at Prairie Island to support continued plant operation. The dry storage of higher enriched, higher burnup spent fuel in the modified TN-40HT cask is also necessary to support continued operation of the PINGP following plant license renewal, if granted.

This application was docketed under 10 CFR 72.16; the ISFSI Docket No. is 72-10 and will remain the same for this action. The NRC inadvertently failed to promptly publish this notice of docketing in the Federal Register after the NRC's receipt of the NMC March 28, 2008, license amendment request. All other procedural requirements in Part 72 will be met as the NRC continues to process this license amendment request (see section II of this notice, “Opportunity to Request a Hearing”).

On November 24, 2009, the Commission issued a “Notice of Availability of Environmental Assessment and Finding of No Significant Impact,” for this action. This notice was published in the Federal Register on December 4, 2009 (74 FR 63798). The Commission will approve the license amendment if it determines that the application meets the standards and requirements of the Atomic Energy Act of 1954, as amended (the Act) and the Commission's regulations, and pursuant to 10 CFR 72.58, the findings required by 10 CFR 72.40. These findings will be documented in a Safety Evaluation Report.

II. Opportunity To Request a Hearing

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

III. Further Information

Documents related to this action, including the application for amendment and supporting documentation, are available electronically at the NRC's Electronic Reading Room at http://www.nrc.gov/reading-rm/adams.html. From this site, you can access the NRC's Agencywide Documents Access and Management System (ADAMS), which provides text and image files of NRC's public documents. The ADAMS accession numbers for the documents related to this notice are ML081190039, ML081190040, ML081230257, ML101170260, ML101170254, ML082970575, ML090840025, ML090840028, ML101170235, ML093310293, ML093310303, and ML093080332. If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's PDR, O1 F21, One White Flint North, 11555 Rockville Pike, Rockville, MD 20852. The PDR reproduction contractor will copy documents for a fee.

Dated at Rockville, Maryland, this 27th day of April 2010.
For the Nuclear Regulatory Commission.
Pamela Longmire,
Project Manager, Licensing Branch, Division of Spent Fuel Storage and Transportation, Office of Nuclear Material Safety and Safeguards.

[FR Doc. 2010-10398 Filed 5-3-10; 8:45 am]

BILLING CODE 7590-01-P